GENERAL SERVICES ADMINISTRATION

Notice of Intent; Environmental Assessment: San Diego County, CA

AGENCY: General Services Administration (GSA).

ACTION: Notice of intent.

SUMMARY: The GSA is issuing this notice to advise the public that an Environmental Assessment will be prepared for a proposed construction project in San Diego County, California.

FOR FURTHER INFORMATION CONTACT: Mr. Kevin Waldron (9PC), United States General Services Administration, Public buildings Service, 450 Golden Gate Avenue Third Floor, San Francisco, Ca 94102, Phone (415) 522-3275 Fax (415) 522-3316.

SUPPLEMENTARY INFORMATION: The GSA, in conjunction with the Immigration and Naturalization Service (INS), will prepare an Environmental Assessment (EA) to evaluate the environmental impacts of construction of a Border Patrol Station/Administration Building for the United States Immigration and Naturalization Service (INS). Potential resources areas of concern within the project area include endangered species, cultural resources, and traffic.

The purpose of the project is to provide expanded office and vehicle maintenance facilities for the INS within reasonable distance of the International Port of Entry at Otay Mesa in western San Diego County, California.

The purchase of 20 acres of property in unincorporated western San Diego County will be the proposed action evaluated in the EA. The EA will examine the potential impacts to the environment that may result from three alternatives and a “no action” alternative. Implementation of either action alternative would result in the construction of a one or two story building of approximately 75,000 square feet, vehicle maintenance and storage facilities, and associated parking lots, landscaping, and infrastructure improvements. Major environmental issues that will be addressed in the EA include, but are not limited to, socioeconomic impacts, air and water quality, traffic and transportation, endangered species, cultural resources, and local infrastructure impacts. The draft EA is due to be published in September 2002. A public hearing and a 45-day review period will follow the publication and distribution of the Draft EA. Four alternatives are being considered for this project. These include construction on a 20-acre parcel known as the Swallow Parcel at Alta Road and Siempre Viva Road, construction on a 35-acre parcel at Alta Road and the yet-to-be constructed Lone Star Road, construction on a 20-acre parcel also off Alta Road north of Lone Star Road, or a no action alternative.

The appropriate federal, state and local agencies, private organizations and citizens who have previously expressed or are known to have interest in this proposal will be placed on a mailing list to receive project-related materials.

A Public Scoping Meeting

Will be held Thursday, July 18, 2002 at 6:30 p.m. at the Otay Mesa Branch Library 3003 Coronado Avenue, San Diego.

The purpose of this hearing is to receive written and verbal comments regarding the potential environmental impacts of the land purchase and construction of the Border Patrol facility. A brief presentation will precede the request for public comment. GSA and INS representative will be available at this meeting to receive comments from the public. Translation services will be made available upon request tot he GSA.

To ensure that the full range of issues related to this proposal action are addressed and all significant issues identified, comments and suggestions are invited from all interested parties. Comments or questions concerning this proposed action and the EA should be directed to GSA at the address provided above.

Kevin F. Waldron,
Site Specialist.

[FR Doc. 02-17510 Filed 7-11-02; 8:45 am]

BILLING CODE 6620-27-M